DEPARTMENT OF THE TREASURY

Internal Revenue Service

Renewal of Charter for the Electronic Tax Administration Advisory Committee (ETAAC)

AGENCY: Internal Revenue Service (IRS), DOT.

ACTION: Notice.

SUMMARY: The charter for the Electronic Tax Administration Advisory Committee (ETAAC) was renewed on March 22, 2006, for an additional two-year period in accordance with the Federal Advisory Committee Act, as amended, (5 U.S.C., App.). The renewal charter was filed on March 22, 2006, with the Committee on Finance of the United States Senate, the Committee on Ways and Means of the U.S. House of Representatives, and the Library of Congress.

ADDRESESS: You may request a copy of the charter by contacting Kim Logan at etaac@irs.gov, by telephone at (202) 283-1947; or by FAX at (202) 283-4829.

FOR FURTHER INFORMATION CONTACT: Kim Logan, (202) 283-1947 (not a toll-free number) or send an e-mail to etaac@irs.gov.

SUPPLEMENTARY INFORMATION: This notice is published in accordance with the provisions of the Federal Advisory Committee Act, as amended, (5 U.S.C., App.) advices of the renewal of the Electronic Tax Administration Advisory Committee (ETAAC). The primary purpose of ETAAC is to provide an organized public forum for discussion of electronic tax administration issues in support of the overriding goal that paperless filing should be the preferred and most convenient method of filing tax and information returns. The ETAAC members convey the public's observations about current or proposed policies, programs, and procedures, and suggest improvements. The ETAAC also provides an annual report to Congress on IRS progress in meeting the Restructuring and Reform Act of 1998 goals for electronic filing of tax returns. This activity is based on the authority to administer the Internal Revenue laws conferred upon the Secretary of the Treasury by section 7802 of the Internal Revenue Code and delegated to the Commissioner of the Internal Revenue.

ETAAC membership is balanced and includes representatives from various groups such as: (1) Tax practitioners and preparers, (2) transmitters of electronic returns, (3) tax software developers, (4) large and small businesses, (5) employers and payroll service providers, (6) individual taxpayers, (7) financial industry (payers, payment options and best practices), (8) system integrators (technology providers), (9) academic (marketing, sales or technical perspectives), (10) trusts and estates, (11) tax exempt organizations, and (12) state and local governments.

Dated: April 3, 2006.
Kim McDonald,
Acting Director, Strategic Services Division.

[FR Doc. E6-5234 Filed 4-10-06; 8:45 am]

BILLING CODE 4830-01-P